DEPARTMENT OF TRANSPORTATION

Office of the Secretary

Aviation Proceedings, Agreements Filed the Week Ending December 21, 2013

The following Agreements were filed with the Department of Transportation under the Sections 412 and 414 of the Federal Aviation Act, as amended (49 U.S.C. 1382 and 1384) and procedures governing proceedings to enforce these provisions. Answers may be filed within 21 days after the filing of the application.

Docket Number: DOT-OST-2013-0218.

Date Filed: December 18, 2013.

Parties: Members of the International Air Transport Association.

Subject: Recommended Practice 1630.

Finally Adopted Resolution dated 17 December 2013.

CSC Mail Vote (S076) dated 23 August 2013.

Intended effective date: 18 February 2014.

Barbara J. Hairston,
Supervisory Dockets Officer, Docket Operations, Federal Register Liaison.

[FR Doc. 2014-01697 Filed 1-28-14; 8:45 am]

BILLING CODE 4910-9X-P